DEPARTMENT OF COMMERCE

Foreign-Trade Zones Board

[Docket B-26-2014]

Foreign-Trade Zone (FTZ) 39—Dallas-Fort Worth, Texas Application for Production Authority; CSI Calendering, Inc. (Rubber Coated Textile Fabric); Comment Period on Submission of New Evidence

On March 18, 2014, an application was submitted by the Dallas/Fort Worth International Airport Board, grantee of FTZ 39, requesting production authority on behalf of CSI Calendering, Inc. (CSI), located in Arlington, Texas. The proposed activity involves calendering, slitting, and laminating of certain RFL (resorcinol formaldehyde latex) textile fabrics (79 FR 16278-16279, 3-25-2014). Comments on the proposal were submitted by interested parties on May 27, 2014. Currently, the FTZ Board is inviting public comment on new evidence provided by CSI as part of its rebuttal comments submitted on June 6, 2014, on which there has not been an opportunity for public comment.

The comment period on CSI's June 6 submission is open through July 16, 2014. Submissions shall be addressed to the FTZ Board's Executive Secretary at the following address: Office of the Executive Secretary, Foreign-Trade Zones Board, Room 21013, U.S. Department of Commerce, 1401 Constitution Avenue NW., Washington, DC 20230-0002.

A copy of CSI's June 6, 2014, submission will be available for public inspection at the address above, and in the “Reading Room” section of the FTZ Board's Web site, which is accessible via www.trade.gov/ftz. For further information, contact Pierre Duy at Pierre.Duy@trade.gov or (202) 482-1378.

Dated: June 9, 2014.
Andrew McGilvray,
Executive Secretary.

[FR Doc. 2014-14062 Filed 6-13-14; 8:45 am]

BILLING CODE 3510-DS-P